DEPARTMENT OF THE INTERIOR

Fish and Wildlife Service

Conference of the Parties to the Convention on International Trade in Endangered Species of Wild Fauna and Flora; Results of the Twelfth Regular Meeting; Public Meeting

AGENCY: Fish and Wildlife Service, Interior.

ACTION: Notice.

SUMMARY: With this notice we announce a public meeting to discuss the results of the twelfth regular meeting of the Conference of the Parties (COP12) to the Convention on International Trade in Endangered Species of Wild Fauna and Flora (CITES).

DATES: The public meeting will be held on December 13, 2002, from 9:30 a.m. to 12 noon.

ADDRESSES:

Public Meeting

The public meeting will be held in the Sidney Yates Auditorium of the Department of the Interior, 18th and C Streets, NW., Washington, DC.

Available Information

Information concerning the results of COP12 is available on the web site of the CITES Secretariat (http://www.cites.org/eng/cop/index.shtml), or upon request from the Division of Management Authority (see FOR FURTHER INFORMATION CONTACT, below), or via our COP12 web site (http://international.fws.gov/cop12/cop12.html).

FOR FURTHER INFORMATION CONTACT: Peter O. Thomas, Ph.D., Chief, Division of Management Authority, U.S. Fish and Wildlife Service, telephone: 703/358-2093, fax: 703/358-2280, e-mail: cites@fws.gov; or Robert R. Gabel, Chief, Division of Scientific Authority, telephone: 703/358-1708, fax: 703/358-2276, e-mail: scientificauthority@fws.gov.

SUPPLEMENTARY INFORMATION:

Background

The Convention on International Trade in Endangered Species of Wild Fauna and Flora (CITES) is an international treaty designed to monitor and regulate international trade in certain animal and plant species which are, or may become, threatened with extinction, and are listed in Appendices to the treaty. Currently 160 countries, including the United States, are CITES Parties. CITES calls for biennial meetings of the Conference of the Parties (COP), which review its implementation, make provisions enabling the CITES Secretariat (in Switzerland) to carry out its functions, consider amending the list of species in Appendices I and II, consider reports presented by the Secretariat, and make recommendations for the improved effectiveness of CITES. Any country that is a Party to CITES may propose and vote on amendments to Appendices I and II, resolutions, decisions, and agenda items for consideration by the Conference of the Parties. CITES COP12 was held in Santiago, Chile, from November 3 to 15, 2002.

This is the seventh in a series of Federal Register notices concerning U.S. participation in CITES COP12. We published our first such Federal Register notice on June 12, 2001 (66 FR 31686), and with it we requested information and recommendations on potential species amendments for the United States to consider proposing at COP12. Information on that Federal Register notice, and on species amendment proposals, is available from the Division of Scientific Authority (see ADDRESSES, above). We published our second such Federal Register notice on July 25, 2001 (66 FR 38739), and with it we requested information and recommendations on potential resolutions, decisions, and agenda items for the United States to submit for consideration at COP12. You may obtain information on that Federal Register notice, and on proposed resolutions, proposed decisions, and agenda items, from the Division of Management Authority (see ADDRESSES, above). We published our third such Federal Register notice on March 27, 2002 (67 FR 14728), and with it we announced a public meeting to discuss potential species amendment proposals, proposed resolutions, proposed decisions, and agenda items that the United States was considering submitting for consideration at COP12. With that notice, we also provided information on how non-governmental organizations based in the United States could attend COP12 as observers. You may obtain information on that Federal Register notice from the Division of Management Authority (see ADDRESSES, above). We published our fourth such Federal Register notice on April 18, 2002 (67 FR 19207), and with it we listed potential proposed resolutions, proposed decisions, agenda items, and proposed amendments to the CITES Appendices that the United States was considering submitting for consideration at COP12, and invited your comments on these potential proposals. You may obtain information on that Federal Register notice from the Division of Management Authority (for information pertaining to proposed resolutions, proposed decisions, and agenda items) or the Division of Scientific Authority (for information pertaining to proposed amendments to the Appendices) (see ADDRESSES, above). We published our fifth such Federal Register notice on August 20, 2002 (67 FR 53962), and with it we announced a public meeting on September 10, 2002, to discuss tentative negotiating positions of the United States for COP12 proposals and other agenda items. You may obtain information on that Federal Register notice from the Division of Management Authority (see ADDRESSES, above). We published our sixth such Federal Register notice on October 31, 2002 (67 FR 66463), in order to provide the agenda for COP12, announce our final tentative negotiating positions, and extend the comment period for providing information and input to the United States in the development of these positions. You may obtain information on that Federal Register notice from the Division of Management Authority (see ADDRESSES, above).

This series of Federal Register notices and public meetings provided the public with an opportunity to participate in the development of tentative U.S. negotiating positions for COP12.

On June 6, 2002, the United States submitted to the CITES Secretariat, for consideration at COP12, its proposed resolutions, proposed decisions, agenda items, and proposed amendments to the CITES Appendices. These documents are available from our web site at: http://international.fws.gov/cop12/ussubmission.html. You may locate our regulations governing this public process in 50 CFR 23.31 through 23.39.

Announcement of Public Meeting

The United States participated in COP12, and by this notice we announce a public meeting to discuss the results of that meeting. The public meeting will be held on December 13, 2002, from 9:30 a.m. to 12 noon in the Sidney Yates Auditorium of the Department of the Interior at 18th and C Streets, NW., Washington, DC. We recommend that you enter the Department of the Interior building via the C Street entrance. Directions to the meeting can be obtained by contacting the Division of Management Authority (see FOR FURTHER INFORMATION CONTACT, above). Please note that the auditorium is accessible to the handicapped. Persons planning to attend the meeting who require interpretation for the hearing impaired should notify the Division of Management Authority as soon as possible.

Author: This notice was prepared by Bruce Weissgold, Division of Management Authority, U.S. Fish and Wildlife Service.

Authority: The authority for this notice is the Endangered Species Act of 1973, as amended (16 U.S.C. 1531 et seq.).

Dated: November 27, 2002.
Marshall P. Jones Jr.,
Deputy Director.

[FR Doc. 02-30700 Filed 12-3-02; 8:45 am]

BILLING CODE 4310-55-P